DEPARTMENT OF JUSTICE

Membership of the Senior Executive Service Standing Performance Review Boards

AGENCY: Department of Justice.

ACTION: Notice of Department of Justice's standing members of the Senior Executive Service Performance Review Boards.

SUMMARY: Pursuant to the requirements of 5 U.S.C. 4314(c)(4), the Department of Justice announces the membership of its 2015 Senior Executive Service (SES) Standing Performance Review Boards (PRBs). The purpose of a PRB is to provide fair and impartial review of SES performance appraisals, bonus recommendations and pay adjustments. The PRBs will make recommendations regarding the final performance ratings to be assigned, SES bonuses and/or pay adjustments to be awarded.

FOR FURTHER INFORMATION CONTACT: Terence L. Cook, Director, Human Resources, Justice Management Division, Department of Justice, Washington, DC 20530; (202) 514-4350.

Lee J. Lofthus,
Assistant Attorney General for Administration.

2015 Federal Register
Name | Position title
Office of the Attorney General—OAG
WERNER, SHARON | CHIEF OF STAFF AND COUNSELOR TO THE ATTORNEY GENERAL.
POKORNY, CAROLYN | DEPUTY CHIEF OF STAFF AND COUNSELOR.
PHILLIPS, CHANNING | SENIOR COUNSELOR TO THE ATTORNEY GENERAL.
MOSIER, JENNY | COUNSELOR TO THE ATTORNEY GENERAL.
HERWIG, PAIGE | COUNSELOR TO THE ATTORNEY GENERAL.
FRANKLIN, SHIRLITHIA V | WHITE HOUSE LIAISON AND COUNSELOR TO THE ATTORNEY GENERAL.
Office of the Deputy Attorney General—ODAG
AXELROD, MATTHEW | PRINCIPAL ASSOCIATE DEPUTY ATTORNEY GENERAL.
GAUHAR, TASHINA | CHIEF OF STAFF AND COUNSELOR.
CONLEY, DANIELLE | ASSOCIATE DEPUTY ATTORNEY GENERAL.
MARGOLIS, DAVID | ASSOCIATE DEPUTY ATTORNEY GENERAL.
JAIN, SAMIR | ASSOCIATE DEPUTY ATTORNEY GENERAL.
ROMANO, VIRGINIA | ASSOCIATE DEPUTY ATTORNEY GENERAL.
URIARTE, CARLOS | ASSOCIATE DEPUTY ATTORNEY GENERAL.
BROWN, CRYSTAL | ASSOCIATE DEPUTY ATTORNEY GENERAL.
PROBER, RAPHAEL | ASSOCIATE DEPUTY ATTORNEY GENERAL.
GOLDSMITH, ANDREW | NATIONAL CRIMINAL DISCOVERY COORDINATOR.
STEINBERG, JILL E | NATIONAL COORDINATOR FOR CHILD EXPLOITATION PREVENTION AND INTERDICTION.
BROWN LEE, ERIKA | CHIEF PRIVACY AND CIVIL LIBERTIES OFFICER.
DINAN, JAMES H | CHIEF, PROFESSIONAL MISCONDUCT REVIEW UNIT.
Office of the Associate Attorney General—OASG
MORAN, MOLLY | PRINCIPAL DEPUTY ASSOCIATE ATTORNEY GENERAL.
GRABER, GEOFFREY | DEPUTY ASSOCIATE ATTORNEY GENERAL.
SCARLETT, PHILIPPA | DEPUTY ASSOCIATE ATTORNEY GENERAL.
CASEY, CHRISTOPHER | DEPUTY ASSOCIATE ATTORNEY GENERAL.
MCEVOY, JULIA | DEPUTY ASSOCIATE ATTORNEY GENERAL.
FOSTER, LISA | DIRECTOR, ACCESS TO JUSTICE.
Office of the Solicitor General—OSG
GERSHENGORN, IAN | PRINCIPAL DEPUTY SOLICITOR GENERAL.
DREEBEN, MICHAEL R | DEPUTY SOLICITOR GENERAL.
KNEEDLER, EDWIN S | DEPUTY SOLICITOR GENERAL.
STEWART, MALCOLM L | DEPUTY SOLICITOR GENERAL.
Antitrust Division—ATR
HESSE, RENATA | PRINCIPAL DEPUTY ASSISTANT ATTORNEY GENERAL.
GELFAND, DAVID I | DEPUTY ASSISTANT ATTORNEY GENERAL.
OVERTON, LESLIE | DEPUTY ASSISTANT ATTORNEY GENERAL.
SNYDER, BRENT | DEPUTY ASSISTANT ATTORNEY GENERAL.
NANCY ROSE | DEPUTY ASSISTANT ATTORNEY GENERAL.
POTTER, ROBERT A | CHIEF, LEGAL POLICY SECTION.
ARMINGTON, ELIZABETH J | CHIEF, ECONOMIC REGULATORY SECTION.
BRINK, PATRICIA A | DIRECTOR OF CIVIL ENFORCEMENT.
FAMILANT, NORMAN | CHIEF, ECONOMIC LITIGATION SECTION.
HAND, EDWARD T | CHIEF, FOREIGN COMMERCE SECTION.
KRAMER II, J. ROBERT | DIRECTOR OF OPERATIONS.
MAJURE, WILLIAM ROBERT | DIRECTOR OF ECONOMICS.
PETRIZZI, MARIBETH | CHIEF, LITIGATION II SECTION.
PRICE JR., MARVIN N | DIRECTOR OF CRIMINAL ENFORCEMENT.
PHELAN, LISA M | CHIEF, NATIONAL CRIMINAL ENFORCEMENT SECTION.
SIEGEL, MARC | CHIEF, SAN FRANCISCO FIELD OFFICE.
TIERNEY, JAMES J | CHIEF, NETWORKS AND TECHNOLOGY ENFORCEMENT SECTION.
SCHEELE, SCOTT A | CHIEF, TELECOMMUNICATIONS AND MEDIA ENFORCEMENT SECTION.
MUCCHETTI, PETER J | CHIEF, LITIGATION I SECTION.
WERDEN, GREGORY J | ECONOMIST ADVISOR.
HOLLAND, CAROLINE | CHIEF COUNSEL FOR COMPETITION POLICY AND INTERGOVERNMENTAL RELATIONS.
GREER, TRACY | ATTORNEY ADVISOR.
MARTINO, JEFFREY | CHIEF, NEW YORK FIELD OFFICE.
Bureau of Alcohol, Tobacco, Firearms, and Explosives—ATF
BRANDON, THOMAS E | DEPUTY DIRECTOR.
TURK, RONALD B | SPECIAL ASSISTANT TO THE DIRECTOR.
SWEETOW, SCOTT | SPECIAL ASSISTANT TO THE DIRECTOR.
GLEYSTEEN, MICHAEL P | ASSISTANT DIRECTOR, FIELD OPERATIONS.
FULTON, JEFFREY | DEPUTY ASSISTANT DIRECTOR, FIELD OPERATIONS (PROGRAMS).
ROESSNER, JOEL | DEPUTY CHIEF COUNSEL.
BOXLER, MICHAEL B | DEPUTY DIRECTOR, TEDAC.
SHAEFER, CHRISTOPHER | ASSISTANT DIRECTOR, OFFICE OF PUBLIC AND GOVERNMENTAL AFFAIRS.
RICHARDSON, MARVIN G | ASSISTANT DIRECTOR, ENFORCEMENT PROGRAM AND SERVICES.
CZARNOPYS, GREGORY P | DEPUTY ASSISTANT DIRECTOR, FORENSIC SERVICES.
GRAHAM, ANDREW R | DEPUTY ASSISTANT DIRECTOR, INDUSTRY OPERATIONS.
KING, MELVIN | ASSISTANT DIRECTOR, OFFICE OF PROFESSIONAL RESPONSIBILITY AND SECURITY OPERATIONS.
HOLGATE, HENRY R | ASSISTANT DIRECTOR, SCIENCE AND TECHNOLOGY/CIO.
MCDERMOND, JAMES E | ASSISTANT DIRECTOR, OFFICE OF STRATEGIC INTELLIGENCE AND INFORMATION.
MICHALIC, VIVIAN B | ASSISTANT DIRECTOR, MANAGEMENT AND CHIEF FINANCIAL OFFICER.
RIEHL, JOSEPH M | DEPUTY ASSISTANT DIRECTOR, MANAGEMENT AND CHIEF FINANCIAL OFFICER.
VIDOLI, MARINO | DEPUTY ASSISTANT DIRECTOR, FIELD OPERATIONS—CENTRAL.
DIXIE, WAYNE | DEPUTY ASSISTANT DIRECTOR, FIELD OPERATIONS—EAST.
FRANEY, LUKE | DEPUTY ASSISTANT DIRECTOR, FIELD OPERATIONS—WEST.
COOPER, JOHN | CHIEF, SPECIAL OPERATIONS DIVISION.
GROSS, CHARLES R | CHIEF COUNSEL.
EPSTEIN, ERIC | ATTORNEY ADVISOR.
GILBERT, CURTIS | DEPUTY ASSISTANT DIRECTOR, ENFOREMENT PROGRAM AND SERVICES.
MCCAIN, DAVID L | ASSISTANT DIRECTOR, HUMAN RESOURCES AND PROFESSIONAL DEVELOPMENT.
GOLD, VICTORIA | DEPUTY ASSISTANT DIRECTOR, IT/CIO.
WALKER, CARL | SPECIAL AGENT IN CHARGE, ATLANTA.
MCMULLAN, WILLIAM | SPECIAL AGENT IN CHARGE, BALTIMORE.
KUMOR, DANIEL | SPECIAL AGENT IN CHARGE, BOSTON.
SORANNO, DONALD | SPECIAL AGENT IN CHARGE, COLUMBUS.
CHAMPION, ROBERT R | SPECIAL AGENT IN CHARGE, DALLAS.
SHOEMAKER, STEPHANIE | SPECIAL AGENT IN CHARGE, DETROIT.
ELDER, ROBERT L | SPECIAL AGENT IN CHARGE, HOUSTON.
GANT, GREGORY | SPECIAL AGENT IN CHARGE, KANSAS CITY.
CANINO, CARLOS | SPECIAL AGENT IN CHARGE, LOS ANGELES.
LOWREY, STUART | SPECIAL AGENT IN CHARGE, LOUISVILLE.
BARRERA, HUGO J | SPECIAL AGENT IN CHARGE, MIAMI.
GERIDO, STEVE | SPECIAL AGENT IN CHARGE, NASHVILLE.
REID, DELANO | SPECIAL AGENT IN CHARGE, NEW YORK.
BELSKY, GEORGE | SPECIAL AGENT IN CHARGE, NEWARK.
RABADI, ESSAM | SPECIAL AGENT IN CHARGE, PHILADELPHIA.
ATTEBERRY, THOMAS | SPECIAL AGENT IN CHARGE, PHOENIX.
DAWSON, DOUGLAS | SPECIAL AGENT IN CHARGE, SEATTLE.
MODZELEWSKI, JAMES | SPECIAL AGENT IN CHARGE, ST PAUL.
LOMBARDO, REGINA | SPECIAL AGENT IN CHARGE, TAMPA.
SMITH, CHARLES | SPECIAL AGENT IN CHARGE, WASHINGTON DC.
Bureau of Prisons—BOP
SAMUELS JR., CHARLES E | DIRECTOR.
EICHENLAUB, LOUIS C | DEPUTY DIRECTOR.
KANE, THOMAS R | SENIOR ADVISOR.
DALIUS JR., WILLIAM F | ASSISTANT DIRECTOR, ADMINISTRATION DIVISION.
JOSLIN, DANIEL M | ASSISTANT DIRECTOR, HUMAN RESOURCES MANAGEMENT DIVISION.
MITCHELL, MARY M | ASSISTANT DIRECTOR, INDUSTRIES, EDUCATION AND VOCATIONAL TRAINING DIVISION.
SIBAL, PHILIP | SENIOR DEPUTY ASSISTANT DIRECTOR, INDUSTRIES, EDUCATION AND VOCATIONAL TRAINING DIVISION.
GROSS, BRADLEY T | SENIOR DEPUTY ASSISTANT DIRECTOR, ADMINISTRATION DIVISION.
CLASS, DENISE M | SENIOR DEPUTY ASSISTANT DIRECTOR, ADMINISTRATION DIVISION.
GARRETT, JUDITH | ASSISTANT DIRECTOR, INFORMATION, POLICY AND PUBLIC AFFAIRS DIVISION.
THOMPSON, SONYA | SENIOR DEPUTY ASSISTANT DIRECTOR, INFORMATION, POLICY AND PUBLIC AFFAIRS DIVISION.
HURWITZ, HUGH J | SENIOR DEPUTY ASSISTANT DIRECTOR, INFORMATION, POLICY, AND PUBLIC AFFAIRS DIVISION.
SCHULT, DEBORAH | SENIOR DEPUTY ASSISTANT DIRECTOR, HEALTH SERVICES DIVISION.
HYLE, KENNETH | SENIOR DEPUTY GENERAL COUNSEL, OFFICE OF GENERAL COUNSEL.
KENNEY, KATHLEEN M | ASSISTANT DIRECTOR, OFFICE OF GENERAL COUNSEL.
KENDALL, PAUL F | SENIOR COUNSEL, OFFICE OF GENERAL COUNSEL.
RODGERS, RONALD L | SENIOR COUNSEL.
COSBY, JIMMY L | DIRECTOR, NATIONAL INSTITUTE OF CORRECTIONS.
BROWN JR., ROBERT M | SENIOR DEPUTY DIRECTOR, NATIONAL INSTITUTE OF CORRECTIONS.
DUNBAR, ANGELA P | SENIOR DEPUTY ASSISTANT DIRECTOR, CORRECTIONAL PROGRAMS DIVISION.
GRIFFITH, CRISTINA L | SENIOR DEPUTY ASSISTANT DIRECTOR, HUMAN RESOURCES MANAGEMENT DIVISION.
MCGREW, LINDA T | ASSISTANT DIRECTOR, RE-ENTRY SERVICES DIVISION.
CARAWAY, JOHN | REGIONAL DIRECTOR, MIDDLE ATLANTIC REGION.
QUINTANA, FRANCISCO J | WARDEN, FMC, LEXINGTON, KY.
BUTLER, SANDRA M | WARDEN FCI, MANCHESTER, KY.
HOLLAND, JAMES C | WARDEN, USP, MCCREARY, KY.
STEWART, TIMOTHY S | WARDEN, FCI, CUMBERLAND, MD.
ATKINSON, KENNETH R | COMPLEX WARDEN-FMC, FCC, BUTNER, NC.
REVELL, SARA M | ASSISTANT DIRECTOR, PROGRAM REVIEW DIVISION.
LAYER, PAUL M | SENIOR DEPUTY ASSISTANT DIRECTOR, PROGRAM REVIEW DIVISION.
STEPHENS, DELORES | WARDEN FCI, MEMPHIS, TN.
ZYCH, CHRISTOPHER | WARDEN, USP, LEE COUNTY, VA.
WILSON, ERIC D | COMPLEX WARDEN, FCC, PETERSBURG, VA.
COAKLEY, JOSEPH D | WARDEN, FCI, BECKLEY, WV.
O'BRIEN, TERENCE T | WARDEN, USP, HAZELTON, WV.
LAIRD, PAUL A | REGIONAL DIRECTOR, NORTH CENTRAL REGION.
OLIVER, JOHN C | COMPLEX WARDEN-FCC, FLORENCE, CO.
CROSS JR., JAMES | WARDEN, FCI, GREENVILLE, IL.
WALTON, JEFFEREY S | WARDEN, USP, MARION, IL.
KRUEGER, JEFFREY E | WARDEN, FCI, PEKIN, IL.
HUDSON JR., DONALD J | WARDEN, FCI, THOMSON, IL.
DANIELS, CHARLES A | COMPLEX WARDEN-USP, FCC, TERRE HAUTE, IN.
MAYE, CLAUDE | WARDEN, USP, LEAVENWORTH, KS.
SANDERS, LINDA L | WARDEN USMCFP, SPRINGFIELD, MO.
NORWOOD, JOSEPH L | REGIONAL DIRECTOR, NORTHEAST REGION.
GRONDOLSKY, JEFF F | WARDEN, FMC, DEVENS, MA.
HOLLINGSWORTH, JORDAN | WARDEN, FCI, FORT DIX, NJ.
ASK-CARLSON, KIMBERLY S | WARDEN MDC, BROOKLYN, NY.
BAIRD, MAUREEN | WARDEN, MCC, NEW YORK, NY.
MAIORANA, CHARLES M | WARDEN, USP, CANAAN, PA.
EBBERT, DAVID W | WARDEN USP, LEWISBURG, PA.
RECKTENWALD, MONICA L | WARDEN, FCI, MCKEAN, PA.
KELLER, JEFFREY A | REGIONAL DIRECTOR, SOUTH CENTRAL REGION.
RIVERA, CARLOS V | COMPLEX WARDEN, FCC, FOREST CITY, AR.
CARVAJAL, MICHAEL D | COMPLEX WARDEN, FCC, POLLUCK, LA.
FOX, JOHN B | WARDEN, FTC, OKLAHOMA CITY, OK.
UPTON, JODY R | WARDEN, FMC, CARSWELL, TX.
MARBERRY, HELEN J | REGIONAL DIRECTOR, SOUTHEAST REGION.
TAYLOR JR., WILLIAM T | WARDEN, FCI, TALLADEGA, AL.
JARVIS, TAMYRA | COMPLEX WARDEN-USP2, FCC, COLEMAN, FL.
LOCKETT, CHARLES L | WARDEN-USP, COLEMAN 1, COLEMAN, FL.
ENGLISH, NICOLE | WARDEN, FCI MARIANNA, FL.
DREW, DARLENE | WARDEN, USP, ATLANTA, GA.
MARTIN, MARK S | COMPLEX WARDEN, FCC, YAZOO CITY, MS.
BRAGG, M. TRAVIS | WARDEN, FCI, BENNETTSVILLE, SC.
THOMAS, LINDA R | WARDEN, FCI, EDGEFIELD, SC.
MEEKS, BOBBY L | WARDEN FCI, WILLIAMSBURG, SC.
MORA, STEVE B | WARDEN MDC, GUAYNABO, PUERTO RICO.
CASTILLO, JUAN D | REGIONAL DIRECTOR, WESTERN REGION.
TRACY, KATHRYN M | WARDEN, FCI, PHOENIX, AZ.
SHARTLE, JOHN T | COMPLEX WARDEN-USP, FCC, TUSCON, AZ.
FOX, JACK W | COMPLEX WARDEN FCC, LOMPOC, CA.
IVES, RICHARD B | COMPLEX WARDEN, FCC, VICTORVILLE, CA.
FEATHER, MARION M | WARDEN FCI, SHERIDAN, OR.
PERDUE, RUSSELL A | WARDEN FCI, SCHUYLKILL, PA.
SHINN, DAVID | WARDEN, MDC, LOS ANGELES, CA.
Civil Division—CIV
MIZER, BENJAMIN | PRINCIPAL DEPUTY ASSISTANT ATTORNEY GENERAL.
BRINKMANN, BETH S | DEPUTY ASSISTANT ATTORNEY GENERAL.
OLIN, JONATHAN | DEPUTY ASSISTANT ATTORNEY GENERAL.
HARTNETT, KATHLEEN | DEPUTY ASSISTANT ATTORNEY GENERAL.
FRESCO, LEON | DEPUTY ASSISTANT ATTORNEY GENERAL.
BRACEY, KALI | DEPUTY ASSISTANT ATTORNEY GENERAL.
FLENTJE, AUGUST E | SPECIAL COUNSEL TO THE ASSISTANT ATTORNEY GENERAL.
ANDERSON, DANIEL R | DEPUTY DIRECTOR, COMMERCIAL LITIGATION BRANCH.
HARVEY, RUTH A | DIRECTOR, COMMERCIAL LITIGATION BRANCH.
MANHARDT, KIRK | DEPUTY DIRECTOR, COMMERCIAL LITIGATION BRANCH.
QUINN, MICHAEL J | SENIOR TRIAL ATTORNEY.
ZWICK, KENNETH L | DIRECTOR, OFFICE OF MANAGEMENT PROGRAMS.
BRANDA, JOYCE R | DEPUTY ASSISTANT ATTORNEY GENERAL.
COPPOLINO, ANTHONY J | DEPUTY BRANCH DIRECTOR.
DAVIDSON, JEANNE E | DIRECTOR, COMMERCIAL LITIGATION BRANCH.
SNEE, BRYANT G | DEPUTY DIRECTOR, COMMERCIAL LITIGATION BRANCH.
FARGO, JOHN J | DIRECTOR, COMMERCIAL LITIGATION BRANCH.
FROST, PETER F | DIRECTOR, AVIATION AND ADMIRALTY SECTION.
BHATTACHARYA, RUPA | DIRECTOR, CONSTITUTIONAL AND SPECIALIZED TORT LITIGATION SECTION.
GLYNN, JOHN PATRICK | DIRECTOR, ENVIRONMENTAL TORT LITIGATION SECTION.
GRANSTON, MICHAEL D | DIRECTOR, COMMERCIAL LITIGATION BRANCH.
YAVELBERG, JAMIE ANN | DEPUTY DIRECTOR, COMMERCIAL LITIGATION BRANCH.
HAUSKEN, GARY L | SENIOR PATENT ATTORNEY.
HUNT, JOSEPH H | BRANCH DIRECTOR.
SHAPIRO, ELIZABETH J | DEPUTY BRANCH DIRECTOR.
GILLIGAN, JAMES | SPECIAL LITIGATION COUNSEL.
COLLETTE, MATTHEW. | DEPUTY DIRECTOR, APPELLATE STAFF.
KIRSCHMAN JR., ROBERT E | DIRECTOR, COMMERCIAL LITIGATION BRANCH.
DINTZER, KENNETH M | DEPUTY DIRECTOR, COMMERCIAL LITIGATION BRANCH.
LETTER, DOUGLAS | DIRECTOR, APPELLATE STAFF.
STERN, MARK B | APPELLATE LITIGATION COUNSEL.
FREEMAN, MARK | SENIOR LEVEL APPELLATE COUNSEL.
LIEBER, SHEILA M | DEPUTY BRANCH DIRECTOR.
MCCONNELL, DAVID M | DIRECTOR, OFFICE OF IMMIGRATION LITIGATION, APPELLATE SECTION.
MCINTOSH, SCOTT R | SENIOR LEVEL APELLATE COUNSEL.
O'MALLEY, BARBARA B | SPECIAL LITIGATION COUNSEL, AVIATION AND ADMIRALTY SECTION.
TOUHEY, JAMES G | DIRECTOR, FEDERAL TORT CLAIMS ACT SECTION.
RICKETTS, JENNIFER D | BRANCH DIRECTOR.
RUDY, SUSAN K | SENIOR TRIAL ATTORNEY.
BLUME, MICHAEL | DIRECTOR, CONSUMER PROTECTION BRANCH.
KISOR, COLIN | SENIOR TRIAL ATTORNEY, OFFICE OF IMMIGRATION LITIGATION.
LATOUR, MICHELLE | DEPUTY DIRECTOR, OFFICE OF IMMIGRATION LITIGATION, APPELLATE SECTION.
RAAB, MICHAEL | APPELLATE LITIGATION COUNSEL.
FURMAN, JILL P | SENIOR TRIAL ATTORNEY, CONSUMER PROTECTION BRANCH.
MATANOSKI, VINCENT | DEPUTY DIRECTOR, TORTS, CONSTITUTIONAL AND SPECIALIZED TORT LITIGATION.
GRIFFITHS, JOHN R | BRANCH DIRECTOR.
PEACHEY, WILLIAM C | DIRECTOR, OFFICE OF IMMIGRATION LITIGATION, DISTRICT COURT.
GUZMAN, JAVIER | COUNSELOR.
Civil Rights Division—CRT
GUPTA, VANITA | PRINCIPAL DEPUTY ASSISTANT ATTORNEY GENERAL.
KAPPELHOFF, MARK J | DEPUTY ASSISTANT ATTORNEY GENERAL.
FRIEL, GREGORY | DEPUTY ASSISTANT ATTORNEY GENERAL.
HILL, EVE LYNNE | DEPUTY ASSISTANT ATTORNEY GENERAL.
KARLAN, PAMELA | DEPUTY ASSISTANT ATTORNEY GENERAL.
GINSBURG, JESSICA A | COUNSEL TO THE ASSISTANT ATTORNEY GENERAL.
SCHUMAN, AARON D | CHIEF, POLICY STRATEGY SECTION.
KENNEBREW, DELORA | CHIEF, EMPLOYMENT LITIGATION SECTION.
MOOSSY, ROBERT J | CHIEF, CRIMINAL SECTION.
BHARGAVA, ANURIMA | CHIEF, EDUCATIONAL OPPORTUNITIES SECTION.
ROSENBAUM, STEVEN H | CHIEF, HOUSING AND CIVIL ENFORCEMENT SECTION.
JANG, DEEANA L | CHIEF, FEDERAL COORDINATION AND COMPLIANCE SECTION.
HERREN JR., THOMAS C | CHIEF, VOTING SECTION.
WERTZ, REBECCA | PRINCIPAL DEPUTY CHIEF, VOTING SECTION.
FLYNN, DIANA KATHERINE | CHIEF, APPELLATE SECTION.
GROSS, MARK L | COMPLAINT ADJUDICATION OFFICER.
BOND, REBECCA B | CHIEF, DISABILITY RIGHTS SECTION.
FORAN, SHEILA | SPECIAL LEGAL COUNSEL, DISABILITY RIGHTS.
RUISANCHEZ, ALBERTO | DEPUTY SPECIAL COUNSEL FOR IMMIGRATION-RELATED UNFAIR EMPLOYMENT PRACTICES.
Criminal Division—CRM
BITKOWER, DAVID | PRINCIPAL DEPUTY ASSISTANT ATTORNEY GENERAL.
BLANCO, KENNETH A | DEPUTY ASSISTANT ATTORNEY GENERAL.
O'BRIEN, PAUL M | DEPUTY ASSISTANT ATTORNEY GENERAL.
SWARTZ, BRUCE CARLTON | DEPUTY ASSISTANT ATTORNEY GENERAL.
SUH, SUNG-HEE | DEPUTY ASSISTANT ATTORNEY GENERAL.
AINSWORTH, PETER J | SENIOR COUNSEL, OFFICE OF OVERSEAS PROSECUTORIAL DEVELOPMENT ASSISTANCE AND TRAINING.
DAY, KENDALL M | CHIEF, ASSET FORFEITURE AND MONEY LAUNDERING SECTION.
CARROLL, OVIE | DIRECTOR, CYBERCRIME LABORATORY, COMPUTER CRIME AND INTELLECTUAL PROPERTY SECTION.
CARWILE, P. KEVIN | CHIEF, CAPITAL CASE UNIT.
LYNCH JR., JOHN T | CHIEF, COMPUTER CRIME, AND INTELLECTUAL PROPERTY SECTION.
DOWNING, RICHARD W | DEPUTY CHIEF, COMPUTER CRIME AND INTELLECTUAL PROPERTY SECTION.
WYDERKO, JOSEPH | DEPUTY CHIEF, APPELLATE SECTION.
HULSER, RAYMOND | CHIEF, PUBLIC INTEGRITY SECTION.
JONES, JOSEPH M | SENIOR COUNSEL FOR INTERNATIONAL DEVELOPMENT AND TRAINING.
KING, DAMON A | SENIOR LITIGATION COUNSEL, CHILD EXPLOITATION AND OBSCENITY SECTION.
MCHENRY, TERESA L | CHIEF, HUMAN RIGHTS AND SPECIAL PROSECUTIONS SECTION.
PAINTER, CHRISTOPHER M | SENIOR COUNSEL FOR CYBERCRIME.
POPE, AMY | COUNSELOR TO THE ASSISTANT ATTORNEY GENERAL.
RAABE, WAYNE C | DEPUTY CHIEF, NARCOTIC AND DANGEROUS DRUG SECTION.
OLMSTED, MICHAEL | SENIOR JUSTICE FOR THE EUROPEAN UNION AND INTERNATIONAL CRIMINAL MATTERS.
RODRIGUEZ, MARY D | DEPUTY DIRECTOR, OFFICE OF INTERNATIONAL AFFAIRS.
ROSENBAUM, ELI M | DIRECTOR, HUMAN RIGHTS ENFORCEMENT STRATEGY AND POLICY.
STEMLER, PATTY MERKAMP | CHIEF, APPELLATE SECTION.
TRUSTY, JAMES | CHIEF, ORGANIZED CRIME AND GANG SECTION.
JAFFE, DAVID | DEPUTY CHIEF, ORGANIZED CRIME AND GANG SECTION.
WEISMANN, ANDREW | CHIEF, FRAUD SECTION.
GOODMAN, NINA | SENIOR COUNSEL FOR APPEALS.
ROTH, MONIQUE P | DIRECTOR, OFFICE OF ENFORCEMENT OPERATIONS.
WEBB, JANET D | DEPUTY DIRECTOR, OFFICE OF ENFORCEMENT OPERATIONS.
WROBLEWSKI, JONATHAN J | DIRECTOR, OFFICE OF POLICY AND LEGISLATION.
WYATT, ARTHUR G | CHIEF, NARCOTIC AND DANGEROUS DRUG SECTION.
EHRENSTAMM, FAYE | DIRECTOR, OPDAT.
Environment and Natural Resources Division—ENRD
HIRSCH, SAMUEL | PRINCIPAL DEPUTY ASSISTANT ATTORNEY GENERAL.
WILLIAMS, JEAN E | DEPUTY ASSISTANT ATTORNEY GENERAL (ENVIRONMENTAL CRIMES AND WILDLIFE AND MARINE RESOURCES SECTIONS).
GELBER, BRUCE S | DEPUTY ASSISTANT ATTORNEY GENERAL.
JONES, LISA | DEPUTY ASSISTANT ATTORNEY GENERAL.
ALEXANDER, S. CRAIG | CHIEF, INDIAN RESOURCES SECTION.
BARSKY, SETH | CHIEF, WILDLIFE AND MARINE RESOURCES.
COLLIER, ANDREW | EXECUTIVE OFFICER.
FERGUSON, CYNTHIA | SENIOR LITIGATOR, ENVIRONMENTAL JUSTICE
HIMMELCHOCH, SARAH | SENIOR ATTORNEY, E-DISCOVERY COORDINATOR.
FISHEROW, W. BENJAMIN | CHIEF, ENVIRONMENTAL ENFORCEMENT SECTION.
MARIANI, THOMAS | DEPUTY CHIEF, ENVIRONMENTAL ENFORCEMENT SECTION.
GELDERMANN, EDWARD S | SENIOR LITIGATION COUNSEL, NATURAL RESOURCES SECTION.
GETTE, JAMES | DEPUTY CHIEF, NATURAL RESOURCES SECTION.
PASSARELLI, EDWARD | DEPUTY CHIEF, NATURAL RESOURCES SECTION.
GOLDFRANK, ANDREW M | CHIEF, LAND ACQUISITION SECTION.
GRISHAW, LETITIA J | CHIEF, ENVIRONMENTAL DEFENSE SECTION.
HOANG, ANTHONY P | SENIOR LITIGATION COUNSEL, NATURAL RESOURCES.
KILBOURNE, JAMES C | CHIEF, APPELLATE SECTION.
MAHAN, ELLEN M | DEPUTY CHIEF, ENVIRONMENTAL ENFORCEMENT SECTION.
DOUGLAS, NATHANIEL | DEPUTY CHIEF, ENVIRONMENTAL ENFORCEMENT SECTION.
MERGEN, ANDREW | DEPUTY CHIEF, APPELLATE SECTION.
HARRIS, DEBORAH | CHIEF, ENVIRONMENTAL CRIMES SECTION.
RUSSELL, LISA L | CHIEF, NATURAL RESOURCES SECTION.
STEWART, HOWARD P | SENIOR LITIGATION COUNSEL.
TENENBAUM, ALAN S | SENIOR LITIGATION COUNSEL, ENVIRONMENTAL ENFORCEMENT.
VADEN, CHRISTOPHER S | DEPUTY CHIEF, ENVIRONMENTAL DEFENSE SECTION.
WARDZINSKI, KAREN M | CHIEF, LAW AND POLICY SECTION.
Executive Office for Immigration Review—EOIR
OSUNA, JUAN P | DIRECTOR.
KOCUR, ANA M | DEPUTY DIRECTOR.
O'LEARY, BRIAN M | CHIEF IMMIGRATION JUDGE.
MCGOINGS, MICHAEL | DEPUTY CHIEF IMMIGRATION JUDGE.
SCHMIDT, PAUL W | SENIOR IMMIGRATION JUDGE.
NEAL, DAVID | CHAIRMAN, BOARD OF IMMIGRATION APPEALS.
ADKINS-BLANCH, CHARLES K | VICE CHAIRMAN, BOARD OF IMMIGRATION APPEALS.
ESPENOZA, CECELIA MARIE | SENIOR ASSOCIATE GENERAL COUNSEL.
STUTMAN, ROBIN M | CHIEF ADMINISTRATIVE HEARING OFFICER.
JORDAN, WYEVETRA | ASSISTANT DIRECTOR FOR ADMINISTRATION.
COLE, PATRICIA A | ATTORNEY EXAMINER.
CREPPY, MICHAEL | ATTORNEY EXAMINER.
MANN, ANA | ATTORNEY EXAMINER.
GRANT, EDWARD R | ATTORNEY EXAMINER.
GREER, ANNE J | ATTORNEY EXAMINER.
GUENDELSBERGER, JOHN W | ATTORNEY EXAMINER.
HOLMES, DAVID B | ATTORNEY EXAMINER.
MALPHRUS, GARRY D | ATTORNEY EXAMINER.
MILLER, NEIL P | ATTORNEY EXAMINER.
MULLANE, HUGH G | ATTORNEY EXAMINER.
PAULEY, ROGER ANDREW | ATTORNEY EXAMINER.
WENDTLAND, LINDA S | ATTORNEY EXAMINER.
Executive Office for Organized Crime Drug Enforcement Task Forces—OCDETF
OHR, BRUCE G | DIRECTOR, OCDETF AND ASSOCIATE DEPUTY ATTORNEY GENERAL.
PADDEN, THOMAS W | DEPUTY DIRECTOR, OCDETF.
Executive Office for U.S. Attorneys—EOUSA
WILKINSON, ROBERT M | DIRECTOR.
BELL, SUZANNE L | DEPUTY DIRECTOR.
FLESHMAN, JAMES MARK | CHIEF INFORMATION OFFICER.
CHANDLER, CAMERON G | ASSOCIATE DIRECTOR, OFFICE OF LEGAL EDUCATION.
MACKLIN, JAMES | GENERAL COUNSEL.
SMITH, DAVID L | COUNSEL FOR LEGAL INITIATIVES.
SUDDES, PAUL | CHIEF FINANCIAL OFFICER.
VILLEGAS, DANIEL A | COUNSEL, LEGAL PROGAMS AND POLICY.
WONG, NORMAN Y | DEPUTY DIRECTOR AND COUNSEL TO THE DIRECTOR.
FLINN, SHAWN | CHIEF HUMAN RESOURCES OFFICER.
Executive Office for U.S. Trustees—EOUST
WHITE III, CLIFFORD J | DIRECTOR.
ELLIOTT, RAMONA D | DEPUTY DIRECTOR GENERAL COUNSEL.
Justice Management Division—JMD
LOFTHUS, LEE J | ASSISTANT ATTORNEY GENERAL FOR ADMINISTRATION.
SANTANGELO, MARI BARR | DEPUTY ASSISTANT ATTORNEY GENERAL FOR HUMAN RESOURCES AND ADMINISTRATION (CHCO).
ALLEN, MICHAEL H | DEPUTY ASSISTANT ATTORNEY GENERAL FOR POLICY, MANAGEMENT, AND PLANNING.
LAURIA-SULLENS, JOLENE A | DEPUTY ASSISTANT ATTORNEY GENERAL/CONTROLLER.
KLIMAVICZ, JOSEPH F | DEPUTY ASSISTANT ATTORNEY GENERAL FOR INFORMATION RESOURCES MANAGEMENT AND CHIEF INFORMATION OFFICER.
GARY, ARTHUR | GENERAL COUNSEL.
MCCONKEY, MILTON G | SENIOR ADVISOR.
ALVAREZ, CHRISTOPHER C | DEPUTY DIRECTOR (AUDITING), FINANCE STAFF.
BEASLEY, ROGER | DIRECTOR, OPERATIONS SERVICES STAFF.
DEELEY, KEVIN | DEPUTY CHIEF INFORMATION OFFICER.
BEWTRA, ANEET K | CHIEF TECHNOLOGY OFFICER.
DUNLAP, JAMES L | DIRECTOR, SECURITY AND EMERGENCY PLANNING STAFF.
FELDT, DENNIS G | DIRECTOR, LIBRARY STAFF.
FRONE, JAMILA W | DIRECTOR, OFFICE OF ATTORNEY RECRUITMENT AND MANAGEMENT.
MORGAN, MELINDA B | DIRECTOR, FINANCE STAFF.
MURRAY, JOHN W | DIRECTOR, ENTERPRISE SOLUTIONS STAFF.
SELWESKI, MARK L | DIRECTOR, PROCUREMENT SERVICES STAFF.
COOK, TERENCE L | DIRECTOR, HUMAN RESOURCES.
NORRIS, J. TREVOR | DEPUTY DIRECTOR, HUMAN RESOURCES.
DAUPHIN, DENNIS | DIRECTOR, DEBT COLLECTION MANAGEMENT STAFF.
FUNSTON, ROBIN S | DIRECTOR, BUDGET STAFF.
SUTTON, JEFFREY W | DEPUTY DIRECTOR, BUDGET STAFF, PROGRAMS AND PERFORMANCE.
OLSON, ERIC R | DEPUTY, CHIEF INFORMATION OFFICER FOR E-GOVERNMENT SERVICES STAFF.
ROGERS, MELINDA | DIRECTOR, INFORMATION TECHNOLOGY SERVICES STAFF.
RODGERS, JANICE M | DIRECTOR, DEPARTMENTAL ETHICS OFFICE.
TOSCANO JR., RICHARD A | DIRECTOR, EQUAL EMPLOYMENT OPPORTUNITY STAFF.
SNELL, R. SCOTT | DIRECTOR, FACILITIES AND ADMINISTRATIVE SERVICES STAFF.
ROPER, MATTHEW L | SENIOR ADVISOR FOR FINANCIAL MANAGEMENT INFORMATION TECHNOLOGY.
National Security Division—NSD
MCCORD, MARY | PRINCIPAL DEPUTY ASSISTANT ATTORNEY GENERAL AND CHIEF OF STAFF.
WIEGMANN, JOHN B | DEPUTY ASSISTANT ATTORNEY GENERAL, OFFICE OF LAW AND POLICY.
EVANS, STUART | DEPUTY ASSISTANT ATTORNEY GENERAL FISA OPERATIONS AND INTELLIGENCE OVERSIGHT.
TOSCAS, GEORGE Z | DEPUTY ASSISTANT ATTORNEY GENERAL (COUNTERESPIONAGE-COUNTERTERRORISM).
DEMBOSKY, LUKE | DEPUTY ASSISTANT ATTORNEY GENERAL.
BRADLEY, MARK A | DIRECTOR FOIA AND DECLASSIFICATION PROGRAM.
DUNNE, STEVEN M | CHIEF, APPELLATE UNIT.
KEEGAN, MICHAEL | DEPUTY CHIEF, COUNTERTERRORISM SECTION.
LAUFMAN, DAVID | CHIEF, COUNTERINTELLIGENCE, EXPORT CONTROL AND ECONOMIC ESPIONAGE.
KENNEDY, J. LIONEL | SPECIAL COUNSEL FOR NATIONAL SECURITY.
MULLANEY, MICHAEL J | CHIEF, COUNTERTERRORISM SECTION.
O'CONNOR, KEVIN | CHIEF, OVERSIGHT SECTION.
SANZ-REXACH, GABRIEL | CHIEF, OPERATIONS SECTION.
JENKINS, MARK | EXECUTIVE OFFICER.
HARDEE, CHRISTOPHER | CHIEF COUNSEL.
SINGH, ANITA | CHIEF OF STAFF AND COUNSELOR.
Office of Community Oriented Policing Services—COPS
DAVIS, RONALD L | DIRECTOR.
EDERHEIMER, JOSHUA A | PRINCIPAL DEPUTY DIRECTOR.
Office of Information Policy—OIP
PUSTAY, MELANIE ANN | DIRECTOR.
Office of the Inspector General—OIG
STORCH, ROBERT P | DEPUTY INSPECTOR GENERAL.
BLIER, WILLIAM M | GENERAL COUNSEL.
JOHNSON, ERIC A | DEPUTY ASSISTANT INSPECTOR GENERAL FOR INVESTIGATIONS.
FORTINE OCHOA, CAROL | ASSISTANT INSPECTOR GENERAL FOR OVERSIGHT AND REVIEW.
MALMSTROM, JASON | ASSISTANT INSPECTOR GENERAL FOR AUDIT.
PETERS, GREGORY T | ASSISTANT INSPECTOR GENERAL FOR MANAGEMENT AND PLANNING.
LERNER, JAY | SENIOR COUNSEL TO THE INSPECTOR GENERAL.
PELLETIER, NINA S | ASSISTANT INSPECTOR GENERAL FOR EVALUATION AND INSPECTIONS.
BECKHARD, DANIEL C | DEPUTY ASSISTANT INSPECTOR GENERAL FOR OVERSIGHT AND REVIEW.
Office of Justice Programs—OJP
MCGARRY, BETH | PRINCIPAL DEPUTY ASSISTANT ATTORNEY GENERAL.
HENNEBERG, MAUREEN A | DEPUTY ASSISTANT ATTORNEY GENERAL OPERATIONS MANAGEMENT.
AYERS, NANCY LYNN | DEPUTY ADMINISTRATOR FOR POLICY, OJJDP.
SPIVAK, HOWARD | DEPUTY DIRECTOR AND CHIEF OF STAFF, NATIONAL INSTITUTE OF JUSTICE.
ROBERTS, MARILYN M | DEPUTY DIRECTOR, OFFICE FOR VICTIMS OF CRIME.
GARRY, EILEEN M | DEPUTY DIRECTOR FOR PLANNING, BUREAU OF JUSTICE ASSISTANCE.
TRAUTMAN, TRACEY | DEPUTY DIRECTOR FOR PROGRAMS, BUREAU OF JUSTICE ASSISTANCE.
FEUCHT, THOMAS E | EXECUTIVE SCIENCE ADVISOR, NATIONAL INSTITUTE OF JUSTICE.
MARTIN, RALPH | DIRECTOR, OFFICE OF AUDIT, ASSESSMENT, AND MANAGEMENT.
BROWN-CUTLAR, SHANETTA | CHIEF OF STAFF AND COUNSEL.
MADAN, RAFAEL A | GENERAL COUNSEL.
MAHONEY, KRISTEN | DEPUTY DIRECTOR, POLICY AND MANAGEMENT, BUREAU OF JUSTICE ASSISTANCE.
MERKLE, PHILLIP | DIRECTOR, OFFICE OF ADMINISTRATION.
JONES, CHYRL | DEPUTY ADMINISTRATOR FOR PROGRAMS, OJJDP.
BENDA, BONNIE LEIGH | CHIEF FINANCIAL OFFICER.
ATSATT, MARILYN B | DEPUTY CHIEF FINANCIAL OFFICER.
MCGRATH, BRIAN | CHIEF INFORMATION OFFICER.
SOLOMON, AMY | DIRECTOR FOR POLICY.
DE BACA, LOUIS | SMART COORDINATOR.
BECK, ALLEN J | SENIOR STATISTICIAN.
Office of Legal Counsel—OLC
THOMPSON, KARL | PRINCIPAL DEPUTY ASSISTANT ATTORNEY GENERAL.
KOFFSKY, DANIEL L | DEPUTY ASSISTANT ATTORNEY GENERAL.
BIES, JOHN | DEPUTY ASSISTANT ATTORNEY GENERAL.
BOYNTON, BRIAN | DEPUTY ASSISTANT ATTORNEY GENERAL.
MCKENZIE, TROY A | DEPUTY ASSISTANT ATTORNEY GENERAL.
COLBORN, PAUL P | SPECIAL COUNSEL.
HART, ROSEMARY A | SPECIAL COUNSEL.
SINGDAHLSEN, JEFFREY P | SENIOR COUNSEL.
Office of Legal Policy—OLP
TYRANGIEL, ELANA | PRINCIPAL DEPUTY ASSISTANT ATTORNEY GENERAL.
KRULIC, ALEXANDER | DEPUTY ASSISTANT ATTORNEY GENERAL.
JONES, KEVIN ROBERT | DEPUTY ASSISTANT ATTORNEY GENERAL.
THIEMANN, ROBYN L | DEPUTY ASSISTANT ATTORNEY GENERAL.
ZUBRENSKY, MICHAEL | DEPUTY ASSISTANT ATTORNEY GENERAL.
KARP, DAVID J | SENIOR COUNSEL.
JACOBS, JOANNA | SENIOR COUNSEL FOR ALTERNATIVE DISPUTE RESOLUTION.
Office of Legislative Affairs—OLA
O'BRIEN, ALICIA | DEPUTY ASSISTANT ATTORNEY GENERAL.
LOSICK, ERIC | DEPUTY ASSISTANT ATTORNEY GENERAL.
WILLIAMS, ELLIOT | DEPUTY ASSISTANT ATTORNEY GENERAL.
BURTON, M. FAITH | SPECIAL COUNSEL.
Office of the Pardon Attorney (OPA)
DEBORAH LEFF | PARDON ATTORNEY.
Office of Professional Responsibility—OPR
ASHTON, ROBIN | COUNSEL FOR PROFESSIONAL RESPONSIBILITY.
WEINSHEIMER, G. BRADLEY | DEPUTY COUNSEL ON PROFESSIONAL RESPONSIBILITY.
BIRNEY, WILLIAM | SENIOR ASSOCIATE COUNSEL.
Office of Public Affairs—PAO
NEWMAN, MELANIE | DIRECTOR.
Office of Tribal Justice—OTJ
TOULOU, TRACY S | DIRECTOR, OFFICE OF TRIBAL JUSTICE.
Office on Violence Against Women—OVW
HANSON, BEATRICE | PRINCIPAL DEPUTY DIRECTOR.
Tax Division—TAX
HUBBERT, DAVID A | DEPUTY ASSISTANT ATTORNEY GENERAL.
CIRAOLO, CAROLINE | DEPUTY ASSISTANT ATTORNEY GENERAL.
ERBSEN, DIANA | DEPUTY ASSISTANT ATTORNEY GENERAL.
GOLDBERG, STUART | SENIOR COUNSELOR TO THE ASSISTANT ATTORNEY GENERAL.
BRUFFY, ROBERT | EXECUTIVE OFFICER.
BALLWEG, MITCHELL J | COUNSELOR TO THE DEPUTY ASSISTANT ATTORNEY GENERAL FOR STRATEGIC TAX ENFORCEMENT.
CIHLAR, FRANK P | CHIEF, CRIMINAL APPEALS AND TAX ENFORCEMENT POLICY SECTION.
DONOHUE, DENNIS M | SENIOR LITIGATION COUNSEL.
PINCUS, DAVID | CHIEF, COURT OF FEDERAL CLAIMS SECTION.
HAGLEY, JUDITH | SENIOR TRIAL ATTORNEY.
HARTT III, GROVER | SENIOR TRIAL ATTORNEY.
CLARKE, RUSSELL | CHIEF, CIVIL TRIAL SECTION, CENTRAL REGION.
MELAND, DEBORAH | CHIEF, CIVIL TRIAL SECTION, EASTERN REGION.
JOHNSON, CORY | SENIOR TRIAL ATTORNEY.
KEARNS, MICHAEL J | CHIEF, CIVIL TRIAL SECTION, SOUTHERN REGION.
LINDQUIST III, JOHN A | SENIOR TRIAL ATTORNEY.
REID, ANN C | CHIEF, OFFICE OF REVIEW.
MULLARKEY, DANIEL P | CHIEF, CIVIL TRIAL SECTION, NORTHERN REGION.
PAGUNI, ROSEMARY E | CHIEF, CRIMINAL ENFORCEMENT SECTION, NORTHERN REGION.
WSZALEK, LARRY | CHIEF, CRIMINAL ENFORCEMENT SECTION, WESTERN REGION.
ROTHENBERG, GILBERT S | CHIEF, APPELLATE SECTION.
SALAD, BRUCE M | CHIEF, CRIMINAL ENFORCEMENT SECTION, SOUTHERN REGION.
SAWYER, THOMAS | SENIOR TRIAL ATTORNEY.
SERGI, JOSEPH A | SENIOR TRIAL ATTORNEY.
SHATZ, EILEEN M | SPECIAL LITIGATION COUNSEL.
SMITH, COREY J | SENIOR TRIAL ATTORNEY.
STEHLIK, NOREENE C | SENIOR TRIAL ATTORNEY.
SULLIVAN, JOHN | SENIOR TRIAL ATTORNEY.
WEAVER, JAMES E | SENIOR TRIAL ATTORNEY.
LARSON, KARI | SENIOR TRIAL ATTORNEY.
IHLO, JENNIFER | SENIOR TRIAL ATTORNEY.
DALY, MARK | SENIOR TRIAL ATTORNEY.
WARD, RICHARD | CHIEF, CIVIL TRIAL SECTION WESTERN REGION.
DAVIS, NANETTE | SENIOR TRIAL ATTORNEY.
U.S. Marshals Service—USMS
HARLOW, DAVID | DEPUTY DIRECTOR.
SNELSON, WILLIAM D | ASSOCIATE DIRECTOR, OPERATIONS.
MUSEL, DAVID F | ASSOCIATE DIRECTOR, ADMINISTRATION.
BROWN, SHANNON B | ASSISTANT DIRECTOR, JPATS.
FALLON, WILLIAM T | ASSISTANT DIRECTOR, TRAINING.
CAULK, CARL | ASSISTANT DIRECTOR OFFICE OF INSPECTION.
PROUT, MICHAEL J | ASSISTANT DIRECTOR, WITNESS SECURITY.
MORALES, EBEN | ASSISTANT DIRECTOR, PRISONER OPERATIONS.
O'BRIEN, HOLLEY | ASSISTANT DIRECTOR, FINANCIAL SERVICES.
MOHAN, KATHERINE | ASSISTANT DIRECTOR, HUMAN RESOURCES.
AUERBACH, GERALD | GENERAL COUNSEL.
O'BRIEN-ROGAN, CAROLE | DEPUTY ASSISTANT DIRECTOR, ACQUISITION AND PROCUREMENT.
DOLAN, EDWARD | SPECIAL ASSISTANT FOR FINANCIAL SYSTEMS.
DESOUSA, NEIL K | ASSISTANT DIRECTOR, TACTICAL OPERATIONS.
BEAL, KIMBERLY | ASSISTANT DIRECTOR, ASSET FORFEITURE.
DOUGLAS, NOELLE | ASSISTANT DIRECTOR, JUDICIAL SECURITY.
SGROI, THOMAS J | ASSISTANT DIRECTOR, MANAGEMENT SUPPORT.
DRISCOLL, DERRICK | ASSISTANT DIRECTOR, INVESTIGATIVE OPERATIONS.
MATHIAS, KARL S | ASSISTANT DIRECTOR, INFORMATION TECHNOLOGY.
EDWARDS, SOPHIA | DIRECTOR, BUSINESS STRATEGY AND INTEGRATION.
VARGO, BRUCE E | SENIOR ADVISOR.

[FR Doc. 2015-21516 Filed 8-28-15; 8:45 am]

BILLING CODE 4410-CW-P